DEPARTMENT OF COMMERCE

International Trade Administration

[A-570-918]

Steel Wire Garment Hangers From the People's Republic of China: Preliminary Results of Antidumping Duty Administrative Review; 2013-2014

AGENCY: Enforcement and Compliance, International Trade Administration, Department of Commerce.

SUMMARY: The Department of Commerce (the “Department”) is conducting the sixth administrative review of the antidumping duty order on steel wire garment hangers from the People's Republic of China (“PRC”).¹ The Department individually reviewed two respondents, Shanghai Wells,² and Ningbo Dasheng Hanger Ind. Co., Ltd., (“Ningbo Dasheng”). The Department preliminarily determines that Shanghai Wells sold subject merchandise in the United States at prices below normal value during the period of review (“POR”), October 1, 2013, through September 30, 2014, and that Ningbo Dasheng is not eligible for a separate and, therefore, is considered part of the PRC-wide entity.³ If these preliminary results are adopted in our final results of review, we will instruct U.S. Customs and Border Protection (“CBP”) to assess antidumping duties on all appropriate entries of subject merchandise during the POR. We invite interested parties to comment on these preliminary results.

¹ See Notice of Antidumping Duty Order: Steel Wire Garment Hangers from the People's Republic of China, 73 FR 58111 (October 6, 2008) (“Order”).

² The Department previously found that Shanghai Wells Hanger Co., Ltd., Hong Kong Wells Ltd. (“HK Wells”) and Hong Kong Wells Ltd. (USA) (“Wells USA”) are affiliated and that Shanghai Wells Hanger Co., Ltd. and HK Wells comprise a single entity (collectively, “Shanghai Wells”). Because there were no changes in this review to the facts that supported that decision, we continue to find Shanghai Wells Hanger Co., Ltd., HK Wells, and USA Wells are affiliated and that Shanghai Wells Hanger Co., Ltd. and HK Wells comprise a single entity. See Steel Wire Garment Hangers From the People's Republic of China: Preliminary Results and Preliminary Rescission, in Part, of the First Antidumping Duty Administrative Review, 75 FR 68758, 68761 (November 9, 2010), unchanged in First Administrative Review of Steel Wire Garment Hangers From the People's Republic of China: Final Results and Final Partial Rescission of Antidumping Duty Administrative Review, 76 FR 27994, 27996 (May 13, 2011).

³ See Steel Wire Garment Hangers from the People's Republic of China: Decision Memorandum for the Preliminary Results of the 2013-2014 Antidumping Duty Administrative Review, dated concurrently with this notice (Preliminary Decision Memorandum) at “Respondent Selection” and “Companies Not Eligible for a Separate Rate” sections.

DATES: Effective Date: July 15, 2015.

FOR FURTHER INFORMATION CONTACT: Alexis Polovina or Katie Marksberry, AD/CVD Operations, Office V, Enforcement and Compliance, International Trade Administration, Department of Commerce, 14th Street and Constitution Avenue NW., Washington, DC 20230; telephone: (202) 482-3927 or (202) 482-7906, respectively.

SUPPLEMENTARY INFORMATION:

Scope of the Order

The product covered by the order is steel wire garment hangers. This product is classified under the Harmonized Tariff Schedule of the United States (“HTSUS”) subheadings: 7326.20.0020, 7323.99.9060, and 7323.99.9080. Although the HTSUS subheadings are provided for convenience and customs purposes, the written product description remains dispositive.⁴

⁴ See the Preliminary Decision Memorandum for a complete description of the scope of the Order.

PRC-Wide Entity

Two Non-Responsive Mandatories failed to respond to the Department's requests for information.⁵ These companies, therefore, are not eligible for separate rate status.⁶ Additionally, Ningbo Dasheng failed to adequately respond to all parts of the questionnaire, and therefore, is also not eligible for a separate rate. Accordingly, the Department preliminarily finds that the PRC-wide entity includes these companies.⁷

⁵ Id., at “Respondent Selection” section.

⁶ See Initiation of Antidumping and Countervailing Duty Administrative Reviews, 79 FR 70850, 70851 (November 28, 2014).

⁷ See Preliminary Decision Memorandum.

The Department's change in policy regarding conditional review of the PRC-wide entity applies to this administrative review.⁸ Under this policy, the PRC-wide entity will not be under review unless a party specifically requests, or the Department self-initiates, a review of the entity. Because no party requested a review of the PRC-wide entity in this review, the entity is not under review and the entity's rate is not subject to change, (i.e., 187.25 percent).⁹

⁸ See Antidumping Proceedings: Announcement of Change in Department Practice for Respondent Selection in Antidumping Duty Proceedings and Conditional Review of the Nonmarket Economy Entity in NME Antidumping Duty Proceedings, 78 FR 65963 (November 4, 2013).

⁹ See Steel Wire Garment Hangers From the People's Republic of China: Final Results of Antidumping Duty Administrative Review, 2012-2013, 80 FR 13332, and accompanying Issues and Decision Memorandum (“5th AR Hangers Final Results”).

Methodology

The Department conducted this review in accordance with section 751(a)(1)(B) of the Act. We calculated constructed export prices and export prices in accordance with section 772 of the Act. Because the PRC is a nonmarket economy within the meaning of section 771(18) of the Act, we calculated normal value in accordance with section 773(c) of the Act.

For a full description of the methodology underlying our conclusions, see the Preliminary Decision Memorandum, dated concurrently with these results and hereby adopted by this notice.¹⁰ The Preliminary Decision Memorandum is a public document and is on file electronically via Enforcement and Compliance's Antidumping and Countervailing Duty Centralized Electronic Service System (“ACCESS”). ACCESS is available to registered users at https://access.trade.gov/login.aspx and to all parties in the Central Records Unit (“CRU”), room 7046 of the main Department of Commerce building. In addition, parties can obtain a complete version of the Preliminary Decision Memorandum on the Internet at http://trade.gov/enforcement/frn/index.html. The signed Preliminary Decision Memorandum and the electronic versions of the Preliminary Decision Memorandum are identical in content.

¹⁰ See Preliminary Decision Memorandum.

Preliminary Results of Review

Regarding the administrative review, the Department preliminarily determines that the following weighted-average dumping margins exist for the period October 1, 2013, through September 30, 2014:

Exporter | Weighted- average dumping margin (%)
Shanghai Wells Hanger Co., Ltd.¹¹ | 33.24

Disclosure, Public Comment & Opportunity To Request a Hearing

The Department will disclose the calculations used in its analysis to parties in this review within five days of the date of publication of this notice.¹²

¹¹ Shanghai Wells consists of Shanghai Wells Hanger Co., Ltd., and Hong Kong Wells Ltd.

¹² See 19 CFR 351.224(b).

Interested parties may submit case briefs within 30 days after the date of publication of these preliminary results of review in the Federal Register.¹³ Rebuttals to case briefs, which must be limited to issues raised in the case briefs, must be filed within five days after the time limit for filing case briefs.¹⁴ Parties who submit arguments are requested to submit with the argument: (1) A statement of the issue, (2) a brief summary of the argument, not to exceed five pages, and (3) a table of authorities.¹⁵

¹³ See 19 CFR 351.309(c)(1)(ii).

¹⁴ See 19 CFR 351.309(d)(1) and (2).

¹⁵ See 19 CFR 351.309(c) and (d).

Any interested party may request a hearing within 30 days of publication of this notice.¹⁶ Hearing requests should contain the following information: (1) The party's name, address, and telephone number; (2) the number of participants; and (3) a list of the issues to be discussed. Oral presentations will be limited to issues raised in the case and rebuttal briefs.¹⁷ If a party requests a hearing, the Department will inform parties of the scheduled date for the hearing which will be held at the U.S. Department of Commerce, 14th Street and Constitution Avenue NW., Washington, DC 20230, at a time and location to be determined. Parties should confirm by telephone the date, time, and location of the hearing.

¹⁶ See 19 CFR 351.310(c).

¹⁷ Id.

The Department intends to issue the final results of this review, including the results of its analysis of the issues raised in any written briefs, not later than 120 days after the date of publication of this notice, pursuant to section 751(a)(3)(A) of the Act.

Assessment Rates

Upon issuance of the final results, the Department will determine, and CBP shall assess, antidumping duties on all appropriate entries covered by this review.¹⁸ The Department intends to issue assessment instructions to CBP 15 days after the publication date of the final results of review.

¹⁸ See 19 CFR 351.212(b).

In these preliminary results, the Department applied the assessment rate calculation method adopted in Final Modification for Reviews, i.e., on the basis of monthly average-to-average comparisons using only the transactions associated with that importer with offsets being provided for non-dumped comparisons.¹⁹

¹⁹ See Antidumping Proceeding: Calculation of the Weighted-Average Dumping Margin and Assessment Rate in Certain Antidumping Proceedings; Final Modification, 77 FR 8101, 8103 (February 14, 2012) (“Final Modification for Reviews”).

Where the respondent reported reliable entered values, we calculated importer- (or customer) specific ad valorem rates by aggregating the dumping margins calculated for all U.S. sales to each importer (or customer) and dividing this amount by the total entered value of the sales to each importer (or customer).²⁰ Where the Department calculated a weighted-average dumping margin by dividing the total amount of dumping for reviewed sales to that party by the total sales quantity associated with those transactions, the Department will direct CBP to assess importer-specific assessment rates based on the resulting per-unit rates.²¹ Where an importer- (or customer-) specific ad valorem or per-unit rate is greater than de minimis, the Department will instruct CBP to collect the appropriate duties at the time of liquidation.²² Where an importer- (or customer-) specific ad valorem or per-unit rate is zero or de minimis, the Department will instruct CBP to liquidate appropriate entries without regard to antidumping duties.²³

²⁰ See 19 CFR 351.212(b)(1).

²¹ Id.

²² Id.

²³ See 19 CFR 351.106(c)(2).

Cash Deposit Requirements

The following cash deposit requirements will be effective upon publication of the final results of these reviews for shipments of the subject merchandise from the PRC entered, or withdrawn from warehouse, for consumption on or after the publication date, as provided by section 751(a)(2)(C) of the Act: (1) For the companies listed above, the cash deposit rate will be established in the final results of these reviews (except, if the rate is zero or de minimis, then zero cash deposit will be required); (2) for previously investigated or reviewed PRC and non-PRC exporters not listed above that received a separate rate in a prior segment of this proceeding, the cash deposit rate will continue to be the exporter-specific rate published for the most recent period; (3) for all PRC exporters of subject merchandise that have not been found to be entitled to a separate rate, the cash deposit rate will be the PRC-wide rate of 187.25 percent; and (4) for all non-PRC exporters of subject merchandise which have not received their own rate, the cash deposit rate will be the rate applicable to the PRC exporter that supplied that non-PRC exporter.

These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

This determination is issued and published in accordance with sections 751(a)(1) and 777(i)(1) of the Act.

Dated: July 6, 2015.
Paul Piquado,
Assistant Secretary for Enforcement and Compliance.

Attachment

List of Topics Discussed in the Preliminary Decision Memorandum

1. Background

2. Respondent Selection

3. Scope of the Order

4. Affiliations

5. NME Country Status

6. Separate Rates

7. Separate Rates Recipients

8. PRC-Wide Entity

9. Surrogate Country and Surrogate Value Data

10. Surrogate Country

11. Date of Sale

12. Determination of Comparison Method

13. Results of Differential Pricing Analysis

14. U.S. Price

15. Value-Added Tax

16. Normal Value

17. Factor Valuations

18. Currency Conversion

19. Conclusion

[FR Doc. 2015-17367 Filed 7-14-15; 8:45 am]

BILLING CODE 3510-DS-P